SMALL BUSINESS ADMINISTRATION

13 CFR Parts 120 and 124

RIN 3245-AF64

Agency Titling Procedure Revision; Nomenclature Changes; Correction

AGENCY: U.S. Small Business Administration.

ACTION: Notice of correcting amendment; correction.

SUMMARY: The U.S. Small Business Administration (SBA) published in the Federal Register of September 4, 2009, a document correcting the titles of certain SBA officials. Some sections were inadvertently amended and another contained an error. This document corrects those amendments.

DATES: Effective on October 6, 2009.

FOR FURTHER INFORMATION CONTACT: Dean R. Koppel, Office of Government Contracting, Small Business Administration, 409 3rd Street, SW., Washington, DC 20416. Tel: (202) 205-6460 and e-mail: dean.koppel@sba.gov.

SUPPLEMENTARY INFORMATION: The SBA published a document in the Federal Register of August 30, 2007 which amended several SBA titles. On September 4, 2009, in the Federal Register (74 FR 45754), § 120.433; § 120.472 and § 120.473 were inadvertently amended. This correction removes the amendments to § 120.433; § 120.472 and § 120.473 published on September 4, 2009. Additionally, § 124.1008 (a) was identified as amended when the reference should have been § 124.1008(e).

In 74 FR 45754 published on September 4, 2009, make the following corrections.

§§ 120.433, 120.472 and 120.473 [Corrected]

1. On page 45753, in the first column, remove the amendments to § 120.433; § 120.472 and § 120.473.

§ 124.1008 [Corrected]

2. On page 45754, in the first column, correct the amendment to § 124.1008 by removing the reference to “paragraph (a)” and adding a reference to “paragraph (e)” in its place.

Dated: September 29, 2009.
Joseph G. Jordan,
Associate Administrator, Office of Government Contracting and Business Development.

[FR Doc. E9-24040 Filed 10-5-09; 8:45 am]

BILLING CODE 8025-01-P